DEPARTMENT OF DEFENSE

Department of the Air Force

Performance Review Boards List of 2002 Members

Below is a list of individuals who are eligible to serve on the Performance Review Boards for the Department of the Air Force in accordance with the Air Force Senior Executive Appraisal and Awards System.

Air Force Materiel Command

Ms. Christine M. Anderson

Lt Gen Charles Coolidge

Mr. Edward Koenig

Maj Gen Mike Mushala

Mr. Harry E. Schulte

Secretariat

Ms. Frances A. Duntz

Mr. David Hamilton

Mr. James D. Marlowe

Ms. Susan A. O'Neal

Mr. Kenneth I. Percell

Mr. Harlan G. Wilder

Air Staff and “Others”

Mr. W. Kipling At Lee, Jr.

Mr. Edward C. Koenig

Mr. Terry R. Little

Mr. Jon S. Ogg

Mr. Ronald L. Orr

Mr. Earl J. Scott

Ms. Debra K. Walker

Pamela D. Fitzgerald,
Air Force Federal Register Liaison Officer.

[FR Doc. 02-23245 Filed 9-11-02; 8:45 am]

BILLING CODE 5001-05-P